NUCLEAR REGULATORY COMMISSION

[Docket No. 50-443]

FPL Energy Seabrook, LLC; Notice of Withdrawal of Application for Amendment to Facility Operating License

The U.S. Nuclear Regulatory Commission (the Commission) has granted the request of FPL Energy Seabrook, LLC (licensee) to withdraw its March 22, 2002, application for proposed amendment to Facility Operating License No. NPF-86 for the Seabrook Station, Unit No. 1, located in Rockingham County, New Hampshire.

The proposed amendment would have revised Technical Specification (TS) 3/4.9.13, “Spent Fuel Storage,” and associated TS figures and index.

The Commission had previously issued a Notice of Consideration of Issuance of Amendment published in the Federal Register on May 14, 2002, (67 FR 34489). However, by letter dated September 15, 2003, the licensee withdrew the proposed change.

For further details with respect to this action, see the application for amendment dated March 22, 2002, and the licensee's letter dated September 15, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 13th day of November, 2003.
For the Nuclear Regulatory Commission.
Victor Nerses,
Senior Project Manager, Section 2, Project Directorate I, Division of Licensing Project Management, Office of Nuclear Reactor Regulation.

[FR Doc. 03-29020 Filed 11-19-03; 8:45 am]

BILLING CODE 7590-01-P